DEPARTMENT OF TRANSPORTATION

Federal Aviation Administration

14 CFR Part 71

[Docket No. FAA-2020-0828; Airspace Docket No. 20-AWA-1]

RIN 2120-AA66

Amendment of Phoenix Sky Harbor Class B Legal Description

AGENCY: Federal Aviation Administration (FAA), DOT.

ACTION: Final rule, technical amendment.

SUMMARY: This action amends the Phoenix Sky Harbor Class B legal description by accurately reflecting the name of the geographical reference point, I-10/Squaw Peak Stack to I-10/Stack contained in the Area A and Area D legal description. The FAA is taking this action because the local community removed Squaw Peak from the geographical reference point and to ensure accurate information is reflected.

DATES: 0901 UTC, December 31, 2020. The Director of the Federal Register approves this incorporation by reference action under Title 1 Code of Federal Regulation part 51, subject to the annual revision of FAA Order 7400.11 and publication of conforming amendments.

ADDRESSES: FAA Order 7400.11E, Airspace Designations and Reporting Points, and subsequent amendments can be viewed online at http://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Airspace Policy Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Phoenix Sky Harbor Class B legal description to preserve the safe and efficient flow of air traffic.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends Title 14 of the Code of Federal Regulations (14 CFR) part 71 by amending the Phoenix Sky Harbor, Class B Area A and Area D legal description, removing the terms Squaw Peak, due to the same actions by local community legislation.

Since this action merely involves editorial changes in the legal description of the Phoenix Sky Harbor, Class B, Area A and Area D and does not involve a change in the dimensions or operating requirements of that airspace, notice and public procedure under 5 U.S.C. 553(b) are unnecessary.

Class B Airspace is published in paragraph 3000 Subpart B, of FAA Order 7400.11E, signed July 21, 2020, and effective September 15, 2020, which is incorporated by reference in 14 CFR 71.1. The Class B Airspace listed in this document will be published subsequently in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the airspace descriptions of the Phoenix Sky Harbor, Class B area A and Area D legal description, by removing the references to the term Squaw Peak as a geographic reference point, qualifies for categorical exclusion under the National Environmental Policy Act and its agency-specific implementing regulations in FAA Order 1050.1F, “Environmental Impacts: Policies and Procedures” regarding categorical exclusions for procedural actions at paragraph 5-6.5a, which categorically excludes from full environmental impact review rulemaking actions that designate or modify classes of airspace areas, airways, routes, and reporting points (see 14 CFR part 71, Designation of Class A, B, C, D, and E Airspace Areas; Air Traffic Service Routes; and Reporting Points). This airspace action is an editorial change only and is not expected to result in any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, signed July 21, 2020, and effective September 15, 2020, is amended as follows:

Paragraph 3000 Subpart B—Class B Airspace.

* * * * *

AWP AZ B Phoenix, AZ

Phoenix Sky Harbor International Airport (Primary Airport)

(Lat. 33°26′03″ N, long. 112°00′42″ W)

Phoenix VORTAC

(Lat. 33°25′59″ N, long. 111°58′13″ W)

Boundaries

Area A. That airspace extending upward from the surface to and including 9,000 feet MSL defined by an east/west line along the northern boundary defined by Camelback Road and the PXR 10 DME, thence east to the intersection of Camelback Road and I-17; thence a line direct to the I-10 Stack following the Loop 202 Freeway from the I-10 Stack to the Red Mountain Hohokam Stack; thence northeast to the intersection of Camelback Road and Hayden Wash (lat. 33°30′07″ N, long. 111°54′32″ W); thence east along Camelback Road to the PXR 6 DME arc (lat. 33°30′07″ N, long. 111°53′00″ W); thence south to the Power Line/Canal (lat. 33°21′25″ N, long. 111°53′33″ W); thence west to a point at lat. 33°21′25″ N, long. 111°54′55″ W, thence northwest to the intersection of I-10 and SR-143 (lat. 33°24′37″ N, long. 111°58′38″ W); thence west to SR-51/I-10 extension to lat. 33°24′34″ N, long. 112°02′13″W, thence southwest to a point at lat. 33°21′45″ N, long. 112°06′20″ W; thence west along the lat. 33°21′45″ N; thence north along the PXR 10 DME arc until intersecting Camelback Road.

Area D. That airspace extending upward from 5,000 feet MSL to and including 9,000 feet MSL defined by an east/west line along the northern boundary using the Peoria Avenue/Shea Boulevard alignment from the intersection of I-17 (lat. 33°35′00″ N, long. 112°07′00″ W); thence east along lat. 33°35′00″ N to the intersection with Pima Road (lat. 33°35′00″ N, long. 111°53'28 W); thence south along Pima Road to the intersection of Camelback Road; thence west along Camelback Road to Hayden Wash (lat. 33°30′07″ N, long. 111°54′32″ W); thence southwest on a line direct to the Red Mountain Hohokam Stack; thence west along the Loop 202 Freeway to the I-10 Stack; thence northwest to the intersection of Camelback Road and I-17; thence north along I-17 to the intersection of I-17 and Peoria Avenue/Shea Boulevard.

* * * * *

Scott M. Rosenbloom,
Acting Manager, Rules and Regulations Group.

[FR Doc. 2020-20923 Filed 9-22-20; 8:45 am]

BILLING CODE 4910-13-P